DEPARTMENT OF TRANSPORTATION

National Highway Traffic Safety Administration

[Docket No. NHTSA-2004-18556; Notice 1]

General Motors Corporation, Receipt of Petition for Decision of Inconsequential Noncompliance

General Motors Corporation (GM) has determined that certain 2004 model year Saab 9-3 Sport Sedans and Convertibles do not comply with S4.2(b) of 49 CFR 571.114, Federal Motor Vehicle Safety Standard (FMVSS) No. 114, “Theft protection.” GM has filed an appropriate report pursuant to 49 CFR Part 573, “Defect and Noncompliance Reports.”

Pursuant to 49 U.S.C. 30118(d) and 30120(h), GM has petitioned for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

Within a total of approximately 4032 model year 2004 Saab 9-3 Sport Sedans and Convertibles equipped with a manual transmission, approximately 11 are affected. S4.2(b) of FMVSS No. 114 requires that “[e]ach vehicle shall have a key-locking system which, whenever the key is removed, prevents either steering or forward self-mobility of the vehicle or both.” The affected vehicles were produced with an ignition key locking system that contains a center spring plate switch that can bind in the closed position. This switch communicates to certain vehicle systems that the ignition key has been inserted or removed. When this switch binds in the closed position, certain systems will read that the ignition key is still in the ignition switch, even after ignition key removal. One of the systems using the input from this switch is the electronic steering column lock to meet the S4.2 requirement of FMVSS No. 114. If a vehicle has the aforementioned condition, the steering column will not lock upon ignition key removal.

GM believes that the noncompliance is inconsequential to motor vehicle safety for the following reasons stated in its petition:

Continued Theft Protection: FMVSS No. 114 was developed to increase road safety by reducing the risk of traffic accidents resulting from unauthorized vehicle operation. All Saab 9-3 vehicles are equipped with an electronic engine immobilizer system that prevents engine operation in the absence of the vehicle's ignition key from the ignition switch module. The immobilizer remains fully operation[al] on vehicles with the aforementioned condition present. Although a vehicle could be steered with this condition, the engine could not be started, even through hot-wiring or other vehicle manipulation. GM considers the immobilizer system to be at least as effective as a steering column lock in preventing vehicle theft. NHTSA and Highway Loss Data Institute data have also confirmed the effectiveness of passively activated engine immobilizers such as that present on the 9-3.

Overt Symptoms: When this condition occurs, the symptoms are very obvious to the customer. Upon key removal the radio/CD player stays on, interior lights will not operate and the remote door locking function will not operate. Additionally, even though the key has been removed, the key warning system will activate when the driver's door is opened. These symptoms will induce the customer to return to the dealer for repairs under the new car warranty.

Failure Occurs Early and only a Small Percentage of Vehicles are Affected: If this condition is present, it is most likely to occur very early in the vehicle's life. In an analysis performed by the component supplier (Delphi), it was estimated that of the components affected by this condition, 85 percent would fail within the first month and 99 percent would fail within six months. Most occurrences have been and will be caught prior to retail delivery. * * * It has been estimated by the supplier of the ignition switch assembly that as of the end of April 2004, a maximum of 15 additional vehicles might experience this condition. Saab warranty data show that 4 warranty repairs have been performed since May 1, 2004. Therefore, based on this projection, a maximum of 11 additional units could be expected to be subject to this condition. We would expect any of these additional instances to occur over the next few months.

GM states that the problem has been corrected.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 am to 5 pm except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: August 13, 2004.

Authority (49 U.S.C. 30118, 30120: delegations of authority at 49 CFR 1.50 and 501.8)

Issued on: July 7, 2004.
Kenneth N. Weinstein,
Associate Administrator for Enforcement.

[FR Doc. 04-15972 Filed 7-13-04; 8:45 am]

BILLING CODE 4910-59-P